DEPARTMENT OF COMMERCE

International Trade ADministration

[A-122-822]

Corrosion-Resistant Carbon Steel Flat Products From Canada: Rescission, in Part, of Antidumping Duty Administrative Review

AGENCY: Import Administration, International Trade Administration, Department of Commerce.

SUMMARY: On September 30, 2003, the Department published the initiation of administrative review of the antidumping duty order on corrosion-resistant carbon steel flat products from Canada, covering the period August 1, 2002, through July 31, 2003. See Initiation of Antidumping and Countervailing Duty Administrative Reviews, Request for Revocation and Deferral of Administrative Reviews (68 FR 56262) (“Initiation”). This administrative review was initiated on the following exporters: Continuous Color Coat, Ltd. (“CCC”), Dofasco Inc. (“Dofasco”), Ideal Roofing Company, Ltd. (“Ideal Roofing”), Impact Steel Canada, Ltd. (“Impact Steel”), Russel Metals Export (“Russel Metals”), Sorevco and Company, Ltd. (“Sorevco”), and Stelco Inc. (“Stelco”). For the reasons discussed below, we are rescinding the administrative reviews of CCC, Impact Steel, and Ideal Roofing.

EFFECTIVE DATE: December 19, 2003.

FOR FURTHER INFORMATION CONTACT: Scott Lindsay or Dana Mermelstein at (202) 482-0780 and (202) 482-1391, respectively; Office of AD/CVD Enforcement VII, Import Administration, International Trade Administration, U.S. Department of Commerce, 14th Street and Constitution Avenue, NW., Washington, DC 20230.

SUPPLEMENTARY INFORMATION:

Background

On September 30, 2003, the Department published the initiation of administrative review of CCC, Dofasco, Ideal Roofing, Impact Steel, Russel Metals, Sorevco, and Stelco, covering the period August 1, 2002, through July 31, 2003. See Initiation. On October 10, 2003, the International Steel Group (“ISG”) withdrew its request for an administrative review of CCC. On October 29, 2003, Impact Steel withdrew its own request for an administrative review. Each request was the only request for review of these two companies. On October 10, 2003, Ideal Roofing withdrew its request for an administrative review. On November 18, 2003, United States Steel Corporation (“USSC”) also withdrew its request for an administrative review of Ideal Roofing. These were the only requests for review of Ideal Roofing.

Rescission, in Part, of the Administrative Review

Pursuant to the Department's regulations, the Department will rescind an administrative review “if a party that requested the review withdraws the request within 90 days of the date of publication of notice of initiation of the requested review.” See 19 CFR 351.213(d)(1). Since both ISG and Impact Steel submitted timely withdrawals of their requests for review of CCC and Impact Steel, respectively, and since they were the only requesters, the Department is rescinding its antidumping administrative review of these companies, in accordance with 19 CFR 351.213(d)(1). Since Ideal Roofing and USSC timely withdrew their request for review, and they were the only requesters for Ideal Roofing, we are rescinding our review of Ideal Roofing. Based on these rescissions, the administrative review of the antidumping duty order on corrosion-resistant carbon steel flat products from Canada covering the period August 1, 2002, through July 31, 2003, now covers the following companies: Dofasco, Russel Metals, Sorevco, and Stelco.

We are issuing and publishing this determination and notice in accordance with section 777(i) of the Act and 19 CFR 351.213(d)(4) of the regulations.

Dated: December 9, 2003.
James J. Jochum,
Assistant Secretary for Import Administration.

[FR Doc. E3-00595 Filed 12-18-03; 8:45 am]

BILLING CODE 3510-DS-S